DEPARTMENT OF VETERANS AFFAIRS

Veterans' Disability Benefits Commission; Notice of Meeting

The Department of Veterans' Affairs (VA) gives notice under Public Law 92-463 (Federal Advisory Committee Act) that the Veterans' Disability Benefits Commission has scheduled a meeting for June 7-8, 2007, at the Washington Plaza Hotel, 10 Thomas Circle, NW., Washington, DC. The meeting sessions will begin at 8 a.m. and end between 5-5:30 p.m. each day. The meeting is open to the public.

The purpose of the Commission is to carry out a study of the benefits under the laws of the United States that are provided to compensate and assist veterans and their survivors for disabilities and deaths attributable to military service.

The agenda for the meeting will feature updates on the progress of the studies being conducted by the Center for Naval Analyses (CNA) and the Institute of Medicine (IOM). There will be additional discussions with CNA on topics of ongoing research and analyses. The IOM Committees on Presumptions and Medical Evaluation of Veterans for Disability are expected to provide an overview of each Committee's final report and discuss their findings with the Commission. The Commission will receive presentations on several draft Issue Papers in various stages of development, discuss priorities for future meetings and sections of the Commissions final report.

Interested persons may attend and present oral statements to the Commission on June 8. Oral presentations will be limited to five minutes or less, depending on the number of participants. Interested parties may also provide written statements for review by the Commission prior to the meeting or at any time, by e-mail to veterans@vetscommission.com or by mail to Mr. Ray Wilburn, Executive Director, Veterans' Disability Benefits Commission, 1101 Pennsylvania Avenue, NW., 5th Floor, Washington, DC 20004.

Dated: May 17, 2007.
By Direction of the Secretary.
E. Philip Riggin,
Committee Management Officer.

[FR Doc. 07-2558 Filed 5-22-07; 8:45 am]

BILLING CODE 8320-07-M